ADMINISTRATIVE CONFERENCE OF THE UNITED STATES

Notice of Committee Meeting and Virtual Meeting of the Assembly of the Administrative Conference of the United States

AGENCY: Administrative Conference of the United States.

ACTION: Notice of meetings.

SUMMARY: The Administrative Conference of the United States will hold two meetings to consider a proposed statement on the subject of Issue Exhaustion in Preenforcement Judicial Review of Administrative Rulemaking. The first of these meetings will be an in-person committee meeting. The second meeting—the meeting of the Assembly—will be the 63rd plenary session of the Administrative Conference and is subject to the requirements of the Federal Advisory Committee Act (5 U.S.C. App.). The Assembly will meet via a virtual, online Web forum extending over a period of approximately one week. Both meetings will be open to the public.

DATES: The committee meeting will take place on Wednesday, September 9, 2015, 10:00 a.m. to 5:00 p.m. The meeting may adjourn early if all business is finished prior to the scheduled end time. The Assembly meeting will be a virtual public meeting that will occur in an online format over the course of approximately one week, starting at 9:00 a.m. on Friday, September 18, 2015, and continuing through 6:00 p.m. on Friday, September 25, 2015.

ADDRESSES: The in-person committee meeting will be held at the Administrative Conference of the United States, Suite 706 South, 1120 20th Street NW., Washington, DC 20036. Any change in the location of the in-person meeting will be posted on the Administrative Conference's Web site (www.acus.gov). The virtual Assembly meeting will have no physical location. A link to this meeting will be posted on the Administrative Conference's Web site in advance of the meeting.

FOR FURTHER INFORMATION CONTACT: Shawne McGibbon, General Counsel (Designated Federal Officer), Administrative Conference of the United States, Suite 706 South, 1120 20th Street NW., Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The voting membership of the Conference, when meeting in plenary session, constitutes the Assembly of the Conference (5 U.S.C. 595).

On Wednesday, September 9, 2015, there will be an in-person meeting, open to the public, of an ad hoc Committee on Issue Exhaustion. The purpose of this meeting will be to conduct preparatory work in anticipation of full consideration of a proposed statement by the Assembly at its 63rd Plenary Session, which will be conducted as a public, virtual (online) meeting over a period of approximately one week, beginning September 18, 2015.

Committee Meeting

Agenda: Consideration will be given to a proposed statement on the topic described below. Issue Exhaustion in Preenforcement Judicial Review of Administrative Rulemaking. This statement examines judicial application of an issue exhaustion requirement in preenforcement review of administrative rulemaking. It sets forth a series of factors that courts may consider when examining the doctrine of issue exhaustion in the context of preenforcement review of agency rules.

Additional information about the proposed statement and the order of the agenda, as well as other materials related to the meeting, can be found on the Conference's Web site at: https://www.acus.gov/meetings-and-events/plenary-meeting/63rd-plenary-session.

Public Participation: The Conference welcomes the attendance of the public at the in-person committee meeting, subject to space limitations, and will make every effort to accommodate persons with disabilities or special needs. If you wish to attend in person, you must register by sending an email message to info@acus.gov no later than two days before the meeting, in order to facilitate entry and to confirm space availability. If you need special accommodations due to disability, please inform the Designated Federal Officer noted above at least seven days in advance of the meeting. Members of the public who attend the meeting may be permitted to speak only with the consent of the Chairman and the unanimous consent of the committee. Committee members and members of the public may also view the meeting via live webcast, which will be available at: https://livestream.com/ACUS.

How to Submit Comments: Persons who wish to comment on the proposed statement may do so by submitting written comments either online by clicking “Submit a Comment” on the Web page listed above, or by U.S. Mail addressed to: Committee Meeting (Issue Exhaustion) Comments, Administrative Conference of the United States, Suite 706 South, 1120 20th Street NW., Washington, DC 20036. Comments for the committee meeting must be relevant to the recommendations being debated, and received no later than Friday, September 4, to ensure consideration.

Virtual Assembly Meeting (63rd Plenary Session)

Agenda: The Assembly will consider the proposed statement on the issue exhaustion doctrine described above.

Conduct of the Virtual Meeting and How to Submit Comments: Consistent with the innovative techniques outlined in Administrative Conference Recommendation 2011-7, The Federal Advisory Committee Act—Issues and Proposed Reforms, the Administrative Conference will conduct a virtual and asynchronous Federal Advisory Committee Act meeting of the Assembly. A link to the Web forum on which the virtual meeting will occur will be provided on the Administrative Conference's Web site (www.acus.gov) and on the 63rd Plenary Session Web page in advance of the meeting: (https://www.acus.gov/meetings-and-events/plenary-meeting/63rd-plenary-session). Voting and non-voting members of the Conference, and members of the general public who wish to comment on the proposed statement, may submit online written comments by clicking “Submit a Comment” on the 63rd Plenary Session Web page on the Conference's Web site. Only members of the Assembly (i.e., voting members of the Conference) may vote. For quorum purposes, a majority of members of the Assembly must register their participation in the Assembly meeting, either by voting to approve or reject the proposed statement; or, at a minimum, indicating that they are present. Voting members will receive information directly on how to register their vote or their presence.

The period for commenting and voting will commence at 9:00 a.m. on Friday, September 18, 2015, and will end at 6:00 p.m. on Friday, September 25, 2015. Relevant comments and a tally of votes will be publicly available through daily postings on the 63rd Plenary Session Web page.

Additional information about the proposed statement, voting eligibility, financial disclosure for non-government members, and other materials related to the meeting, can be found at the 63rd Plenary Session Web page noted above.

Dated: August 17, 2015.
Shawne McGibbon,
General Counsel.

[FR Doc. 2015-20621 Filed 8-20-15; 8:45 am]

BILLING CODE 6110-01-P